UNIFIED CARRIER REGISTRATION PLAN

Sunshine Act Meeting

TIME AND DATE: December 16, 2021, from 12:00 p.m. to 3:00 p.m., Eastern time.

PLACE: This meeting will be accessible via conference call and screensharing. Any interested person may call 877-853-5247 (US toll free), 888-788-0099 (US toll free), +1 929-205-6099 (US toll), or +1 669-900-6833 (US toll), Conference ID 910 1040 9956, to participate in the meeting. The website to participate via Zoom meeting and screenshare is https://kellen.zoom.us/j/91010409956.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

Board actions taken only in designated areas on agenda.

IV. Approval of Minutes of the November 4, 2021 UCR Board Meeting—UCR Board Chair

For Discussion and Possible Action

Draft Minutes of the November 4, 2021 UCR Board meeting will be reviewed. The Board will consider action to approve.

V. Report of the Federal Motor Carrier Safety Administration (FMCSA)—FMCSA Representative

The FMCSA will provide a report on any relevant activity.

VI. Subcommittee Reports

Audit Subcommittee—UCR Audit Subcommittee Chair

A. Review Proposals Received for Independent Audit of the UCR Depository—UCR Executive Director and UCR Depository Manager.

For Discussion and Possible Board Action

The UCR Executive Director and the UCR Depository Manager will discuss the proposals received from the respondents to the request-for-proposal (RFP) that was distributed to four selected firms in November 2021. The purpose of the RFP was to begin a process to identify and engage a new independent auditing firm to conduct an assurance engagement of the UCR Depository's financial statements for the year ending December 31, 2021. All four firms responded and provided proposals that have been tabulated, ranked, and will be presented to the Board. The Audit Subcommittee has recommended one of the proposals and that recommendation and the other proposals will be presented to the Board for its consideration and approval as the independent auditors for the Depository's financial statements ending December 31, 2021.

B. Discussion of the UCR Internal Controls Procedures Report Prepared by the Independent Audit Firm—UCR Executive Director.

For Discussion and Possible Board Action

The UCR Executive Director will lead a discussion of the report on the internal controls review that was performed by Williams, Benator & Libby (WBL). The response to the report from Kellen will also be reviewed and discussed. The Board may consider amendments to the written internal controls procedures based on WBL's report.

C. Motor Carriers Selecting Option B for UCR Renewals—UCR Audit Subcommittee Chair, UCR Executive Director, and DSL Transportation Services, Inc. (DSL).

The UCR Audit Subcommittee Chair, UCR Executive Director, and DSL will discuss issues related to motor carriers who select Option B to utilize UCR registration. The discussion will include consideration of the “pros” and “cons” regarding the potential requirement on motor carriers to upload a list of intrastate exempt vehicles to the National Registration System when registering in the portal.

D. Review 49 CFR 392.2 Violations—UCR Audit Subcommittee Chair and DSL.

The UCR Audit Subcommittee Chair and DSL will review the 49 CFR 392.2 violations in the State of Kansas (“Kansas”). The discussion will highlight the financial value to Kansas by vetting these companies for UCR compliance, commercial registration, IFTA, intrastate, and interstate operating authority. 49 CFR 392.2 requires commercial motor vehicles to operate in accordance with the laws, ordinances, and regulations of the jurisdiction in which they are operating within.

E. UCR Compliance Snapshot—UCR Audit Subcommittee Chair.

The UCR Audit Subcommittee Chair will review audit compliance rates for the states for registration years 2020, 2021, and 2022 and included compliance percentages for Focused Anomaly Reviews (FARs), retreat audits, and registration compliance percentages as mandated by the UCR Board.

Finance Subcommittee—UCR Finance Subcommittee Chair

A. Review of 2022 Administrative Budget—UCR Finance Subcommittee Chair and UCR Depository Manager.

For Discussion and Possible Board Action

The UCR Finance Subcommittee Chair and UCR Depository Manager will present and discuss a proposed budget for the 2022 UCR administrative expenses. The Board may take action to approve and adopt the 2022 budget. The UCR Finance Subcommittee has recommended the Board adopt the proposed budget for the 2022 administrative year as presented.

B. Investing Excess Fees for the 2021 Registration Year in Certificates of Deposit (CDs)—Finance Subcommittee Chair and UCR Depository Manager.

For Discussion and Possible Board Action

The Finance Subcommittee Chair and UCR Depository Manager will lead a discussion regarding an opportunity to invest 2021 excess fees in two CDs with one half in a CD maturing in January 2023 and one half in a CD maturing in April 2023 at the Bank of North Dakota. The CDs will earn a better rate-of-return than the savings accounts at the Bank of North Dakota where these funds are currently deposited. The 2021 excess fees will not be utilized until January 2023 at the earliest, so earning a higher rate-of-return will increase the excess fees, providing for additional funding in 2023. The Board may take action to invest the 2021 excess fees in CDs at the Bank of North Dakota. The Finance Subcommittee recommends that the Board authorize the investment of 2021 excess fees in two separate CDs as presented.

Education and Training Subcommittee—UCR Education and Training Subcommittee Chair

A. Update on Future Training Initiatives—UCR Education and Training Subcommittee Chair.

The UCR Education and Training Subcommittee Chair will provide an update on the planned future training initiatives for the UCR Plan.

VII. Contractor Reports—UCR Executive Director

• UCR Executive Director's Report

The UCR Executive Director will provide a report covering recent activity for the UCR Plan.

• DSL Transportation Services, Inc.

DSL Transportation Services, Inc. will report on the latest data from the Focused Anomaly Reviews (FARs) program, discuss motor carrier inspection results, and other matters.

• Seikosoft

Seikosoft will provide an update on recent/new activity related to the National Registration System.

• UCR Administrator Report (Kellen)—UCR Operations Director and UCR Depository Manager

The UCR staff will provide a management report covering recent activity for the Depository, Operations, and Communications.

VIII. Other Business—UCR Board Chair

The UCR Board Chair will call for any other items Board members would like to discuss.

IX. Adjournment—UCR Board Chair

The UCR Board Chair will adjourn the meeting.

This agenda will be available no later than 5:00 p.m. Eastern time, December 9, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-27011 Filed 12-9-21; 4:15 pm]

BILLING CODE 4910-YL-P